INTERNATIONAL TRADE COMMISSION

[Inv. No. 337-TA-570]

In the Matter of Certain Flash Memory Chips, Flash Memory Systems, and Products Containing Same; Notice of Commission Determination Not To Review an Initial Determination Granting Motion of Acclaim Innovations, LLC To Intervene as Co-Complainant

AGENCY: U.S. International Trade Commission.

ACTION: Notice.

SUMMARY: Notice is hereby given that the U.S. International Trade Commission has determined not to review an initial determination (“ID”) (Order No. 7) of the presiding administrative law judge (“ALJ”) granting motion of Acclaim Innovations, LLC (“Acclaim”) to intervene as co-complainant in the above-captioned investigation under section 337 of the Tariff Act of 1930 (19 U.S.C. 1337).

FOR FURTHER INFORMATION CONTACT: Clint Gerdine, Esq., telephone 202-708-2310, Office of the General Counsel, U.S. International Trade Commission, 500 E Street, SW., Washington, DC 20436. Copies of all nonconfidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on the matter can be obtained by contacting the Commission's TDD terminal on 202-205-1810.

SUPPLEMENTARY INFORMATION: The Commission instituted this investigation on May 16, 2006, based on a complaint filed on April 11, 2006, by Lexar Media, Inc. (“Lexar”) of Fremont, California. 71 FR 28387. The complaint alleges violations of section 337 in the importation into the United States, the sale for importation, and the sale within the United States after importation of certain flash memory chips, flash memory systems, and products containing same by reason of infringement of claims 1 and 2 of U.S. Patent No. 6,801,979; claims 1-7 of U.S. Patent No. 6,397,314; and claims 1-13, 15, and 16 of U.S. Patent No. 6,978,342. The complaint named three respondents: Toshiba Corporation of Japan; Toshiba America, Inc. of New York, New York; and Toshiba America Electronic Components, Inc. of Irvine, California (collectively the “respondents”). The complaint further alleged that an industry in the United States exists as required by subsection (a)(2) of section 337.

On July 31, 2006, Acclaim moved to intervene as co-complainant on the basis of assignment of the three identified patents-at-issue from Lexar to Acclaim on June 20, 2006. No party opposed having Acclaim intervene as co-complainant.

The ALJ issued the subject ID on August 15, 2006, granting the motion to intervene. No party petitioned for review of the ID pursuant to 19 CFR 210.43(a), and the Commission found no basis for ordering a review on its own initiative pursuant to 19 CFR 210.44.

The authority for the Commission's determination is contained in section 337 of the Tariff Act of 1930, as amended (19 U.S.C. 1337), and in sections 210.19 and 210.42(h)(3) of the Commission's Rules of Practice and Procedure.

Issued: August 31, 2006, (F.R.: October 17, 2006).
By order of the Commission.
Marilyn R. Abbott,
Secretary to the Commission.

[FR Doc. E6-17721 Filed 10-20-06; 8:45 am]

BILLING CODE 7020-02-P